FEDERAL MINE SAFETY AND HEALTH REVIEW COMMISSION

Sunshine Act Notice

May 29, 2017.

Time and Date: 10:00 a.m., Thursday, June 15, 2017.

Place: The Richard V. Backley Hearing Room, Room 511N, 1331 Pennsylvania Avenue NW., Washington, DC 20004 (enter from F Street entrance).

Status: Open.

Matters to be Considered: The Commission will consider and act upon the following in open session: Secretary of Labor v. Lehigh Anthracite Coal, LLC, et al., Docket Nos. PENN 2014-108, et al. (Issues include whether the Judge erred in concluding that sending a miner into the pit in question constituted “high negligence” rather than reckless disregard”).

Any person attending this meeting who requires special accessibility features and/or auxiliary aids, such as sign language interpreters, must inform the Commission in advance of those needs. Subject to 29 CFR 2706.150(a)(3) and 2706.160(d).

Contact Person for More Info: Emogene Johnson (202) 434-9935/(202) 708-9300 for TDD Relay/1-800-877-8339 for toll free.

Phone Number for Listening to Meeting: 1 (866) 867-4769, Passcode: 678-100.

Sarah L. Stewart,
Deputy General Counsel.

[FR Doc. 2017-11472 Filed 5-30-17; 4:15 pm]

BILLING CODE 6735-01-P